DEPARTMENT OF HEALTH AND HUMAN SERVICES

National Institutes of Health

National Institute of Arthritis and Musculoskeletal and Skin Diseases; Amended Notice of Meeting

Notice is hereby given of a change in the meeting of the National Institute of Arthritis and Musculoskeletal and Skin Diseases Special Emphasis Panel, October 10, 2002, 1 p.m. to October 10, 2002, 2:30 p.m., Holiday Inn—Chevy Chase, Palladian East and Center Rooms, 5520 Wisconsin Avenue, Chevy Chase, MD, 20815, which was published in the Federal Register on September 20, 2002, 67 FR 59299-59300.

The meeting will be held on 11/18/2002 at 1 p.m.-2:30 p.m. at the Holiday Inn—Chevy Chase. The meeting is closed to the public.

Dated: October 30, 2002.
LaVerne Y. Stringfield,
Director, Office of Federal Advisory Committee Policy

[FR Doc. 02-28226 Filed 11-5-02; 8:45 am]

BILLING CODE 4140-01-M